DEPARTMENT OF HOMELAND SECURITY

Federal Emergency Management Agency

[Docket ID FEMA-2020-0002; Internal Agency Docket No. FEMA-B-2044]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and case No. | Chief executive officer of community | Community map repository | Online location of letter of map revision | Date of modification | Community No.
Alabama:
Madison | City of Madison (19-04-6821P). | The Honorable Paul Finley, Mayor, City of Madison, 100 Hughes Road, Madison, AL 35758. | Engineering Department, 100 Hughes Road, Madison, AL 35758. | https://msc.fema.gov/portal/advanceSearch. | Oct. 5, 2020 | 010308
Madison | Unincorporated Areas of Madison County (19-04-6821P). | The Honorable Dale W. Strong, Chairman, Madison County Commission, 100 North Side Square, Huntsville, AL 35801. | Madison County Public Works Department, 266-C Shields Road, Huntsville, AL 35811. | https://msc.fema.gov/portal/advanceSearch. | Oct. 5, 2020 | 010151
Arizona: Pinal | Unincorporated areas of Pinal County (19-09-1873P). | The Honorable Anthony Smith, Chairman, Pinal County Board of Supervisors, P.O. Box 827, Florence, AZ 85132. | Pinal County Flood Control District, 31 North Pinal Street, Building F, Florence, AZ 85132. | https://msc.fema.gov/portal/advanceSearch. | Oct. 30, 2020 | 040077
Arkansas: Benton | City of Rogers (19-06-2805P). | The Honorable Greg Hines, Mayor, City of Rogers, 301 West Chestnut Street, Rogers, AR 72756. | Community Development Department, 301 West Chestnut Street, Rogers, AR 72756. | https://msc.fema.gov/portal/advanceSearch. | Oct. 27, 2020 | 050013
Colorado:
Weld | City of Evans (19-08-0862P). | The Honorable Brian Rudy, Mayor, City of Evans, 1100 37th Street, Evans, CO 80620. | Engineering Department, 1100 37th Street, Evans, CO 80620. | https://msc.fema.gov/portal/advanceSearch. | Oct. 26, 2020 | 080182
Weld | Unincorporated areas of Weld County (19-08-0862P). | The Honorable Mike Freeman, Chairman, Weld County Board of Commissioners, P.O. Box 758, Greeley, CO 80632. | Weld County Department of Planning Services, 1555 North 17th Avenue, Greeley, CO 80631. | https://msc.fema.gov/portal/advanceSearch. | Oct. 26, 2020 | 080266
Connecticut:
Fairfield | Town of Darien (20-01-0946P). | The Honorable Jayme J. Stevenson, First Selectman, Town of Darien Board of Selectmen, 2 Renshaw Road, Room 202, Darien, CT 06820. | Planning and Zoning Department, 2 Renshaw Road, Darien, CT 06820. | https://msc.fema.gov/portal/advanceSearch. | Oct. 2, 2020 | 090005
Fairfield | Town of Westport (20-01-0945P). | The Honorable James Marpe, First Selectman, Town of Westport Board of Selectmen, 110 Myrtle Avenue, Westport, CT 06880. | Planning and Zoning Department, 110 Myrtle Avenue, Room 203, Westport, CT 06880. | https://msc.fema.gov/portal/advanceSearch. | Oct. 5, 2020 | 090019
Florida:
Alachua | City of Hawthorne (18-04-6771P). | The Honorable Matthew Surrency, Mayor, City of Hawthorne, P.O. Box 2413, Hawthorne, FL 32640. | Public Works Department, 6875 Southeast 221st Street, Hawthorne, FL 32640. | https://msc.fema.gov/portal/advanceSearch. | Oct. 26, 2020 | 120682
Alachua | Unincorporated areas of Alachua County (18-04-6771P). | The Honorable Robert “Hutch” Hutchinson, Chairman, Alachua County Board of Commissioners, 12 Southeast 1st Street, 2nd Floor, Gainesville, FL 32601. | Alachua County Public Works Department, 5620 Northwest 120th Lane, Gainesville, FL 32653. | https://msc.fema.gov/portal/advanceSearch. | Oct. 26, 2020 | 120001
Charlotte | Unincorporated areas of Charlotte County (20-04-2886P). | The Honorable Bill Truex, Chairman, Charlotte County Board of Commissioners, 18500 Murdock Circle, Suite 536, Port Charlotte, FL 33948. | Charlotte County Building Department, 18400 Murdock Circle, Port Charlotte, FL 33948. | https://msc.fema.gov/portal/advanceSearch. | Nov. 6, 2020 | 120061
Indian River | Unincorporated areas of Indian River County (19-04-6224P). | The Honorable Susan Adams, Chair, Indian River County Board of Commissioners, 1801 27th Street, Vero Beach, FL 32960. | Indian River County Community Development Department, 1801 27th Street, Vero Beach, FL 32960. | https://msc.fema.gov/portal/advanceSearch. | Oct. 9, 2020 | 120119
Monroe | Unincorporated areas of Monroe County (20-04-2774P). | The Honorable Heather Carruthers, Mayor, Monroe County Board of Commissioners, 500 Whitehead Street, Suite 102, Key West, FL 33040. | Monroe County Building Department, 2798 Overseas Highway, Suite 300, Marathon, FL 33050. | https://msc.fema.gov/portal/advanceSearch. | Nov. 2, 2020 | 125129
Orange | Unincorporated areas of Orange County (19-04-5112P). | The Honorable Jerry L. Demings, Mayor, Orange County, 201 South Rosalind Avenue, 5th Floor, Orlando, FL 32801. | Orange County Stormwater Department, 4200 South John Young Parkway, Orlando, FL 32839. | https://msc.fema.gov/portal/advanceSearch. | Oct. 27, 2020 | 120179
Georgia: Douglas | Unincorporated areas of Douglas County (19-04-5352P). | The Honorable Romona Jackson Jones, Chair, Douglas County Board of Commissioners, 8700 Hospital Drive, 3rd Floor, Douglasville, GA 30134. | Douglas County Development Services Department, 8700 Hospital Drive, Douglasville, GA 30134. | https://msc.fema.gov/portal/advanceSearch. | Oct. 23, 2020 | 130306
Massachusetts: Bristol | City of Taunton (20-01-0947P). | The Honorable Shaunna O'Connell, Mayor, City of Taunton, 141 Oak Street, Taunton, MA 02780. | Engineering Department, 90 Ingell Street, Taunton, MA 02780. | https://msc.fema.gov/portal/advanceSearch. | Oct. 5, 2020 | 250066
Maine:
Washington | Baring Plantation (20-01-0666P). | Ms. Stacie Beyer, Planning Manager, Baring Plantation, Land Use Planning Commission, 22 State House Station, Augusta, ME 04333. | Baring Plantation Hall, 22 State House Station, Augusta, ME 04333. | https://msc.fema.gov/portal/advanceSearch. | Oct. 26, 2020 | 230468
Washington | Grand Lake Stream Plantation (20-01-0494P). | Ms. Stacie Beyer, Planning Manager, Grand Lake Stream Plantation Land Use Planning Commission, 18 Elkins Lane, Augusta, ME 04333. | Grand Lake Stream Plantation Hall, 22 SHS, 18 Elkins Lane, Augusta, ME 04333. | https://msc.fema.gov/portal/advanceSearch. | Oct. 22, 2020 | 230469
Washington | Town of Alexander (20-01-0625P). | The Honorable Foster Carlow Jr., Chairman, Town of Alexander Board of Selectmen, 50 Cooper Road, Alexander, ME 04694. | Town Hall, 50 Cooper Road, Alexander, ME 04694. | https://msc.fema.gov/portal/advanceSearch. | Oct. 23, 2020 | 230303
Washington | Town of Alexander (20-01-0666P). | The Honorable Foster Carlow Jr., Chairman, Town of Alexander Board of Selectmen, 50 Cooper Road, Alexander, ME 04694. | Town Hall, 50 Cooper Road, Alexander, ME 04694. | https://msc.fema.gov/portal/advanceSearch. | Oct. 26, 2020 | 230303
Washington | Town of Baileyville (20-01-0666P). | Mr. Chris Loughlin, Town of Baileyville Manager, P.O. Box 370, Baileyville, ME 04694. | Town Hall, 63 Broadway, Baileyville, ME 04694. | https://msc.fema.gov/portal/advanceSearch. | Oct. 26, 2020 | 230304
Washington | Town of Brookton (20-01-0423P). | Ms. Stacie Beyer, Chief Planner, Township of Brookton Land Use Planning Commission, 18 Elkins Lane, Augusta, ME 04333. | Township Hall, 22 SHS, 18 Elkins Lane, Augusta, ME 04333. | https://msc.fema.gov/portal/advanceSearch. | Oct. 22, 2020 | 230470
Washington | Town of Crawford (20-01-0625P). | The Honorable Coburn Wallace, Chairman, Town of Crawford Board of Selectmen, 359 Crawford Arm Road, Crawford, ME 04694. | Town Hall, 359 Crawford Arm Road, Crawford, ME 04694. | https://msc.fema.gov/portal/advanceSearch. | Oct. 23, 2020 | 230309
Washington | Town of Danforth (20-01-0423P). | The Honorable Carrie Oliver, Chair, Town of Danforth Board of Selectmen, P.O. Box 117, Danforth, ME 04424. | Town Hall, 18 Central Street, Danforth, ME 04424. | https://msc.fema.gov/portal/advanceSearch. | Oct. 22, 2020 | 230136
Washington | Town of Talmadge (20-01-0494P). | The Honorable Zachary Beane, Chairman, Town of Talmadge Board of Selectmen, 455 Houlton Road, #13, Waite, ME 04492. | Town Hall, 14 Old Mill Road, Waite, ME 04492. | https://msc.fema.gov/portal/advanceSearch. | Oct. 22, 2020 | 230914
Washington | Town of Topsfield (20-01-0423P). | The Honorable Rickey Irish, Chairman, Town of Topsfield Board of Selectmen, 48 North Road, Topsfield, ME 04490. | Town Hall, 48 North Road, Topsfield, ME 04490. | https://msc.fema.gov/portal/advanceSearch. | Oct. 22, 2020 | 230324
Washington | Town of Topsfield (20-01-0494P). | The Honorable Rickey Irish, Chairman, Town of Topsfield Board of Selectmen, 48 North Road, Topsfield, ME 04490. | Town Hall, 48 North Road, Topsfield, ME 04490. | https://msc.fema.gov/portal/advanceSearch. | Oct. 22, 2020 | 230324
Washington | Town of Wesley (20-01-0625P). | The Honorable Glen Durling, Chairman, Town of Wesley Board of Selectmen, 2 Whining Pines Drive, Wesley, ME 04686. | Town Hall, 2 Whining Pines Drive, Wesley, ME 04686. | https://msc.fema.gov/portal/advanceSearch. | Oct. 23, 2020 | 230327
North Carolina: Buncombe | Unincorporated areas of Buncombe County (20-04-3616P). | The Honorable Brownie Newman, Chairman, Bumcombe County Board of Commissioners, 200 College Street, Suite 300, Asheville, NC 28801. | Buncombe County Service Foundation, 200 College Street, Suite 300, Asheville, NC 28801. | https://msc.fema.gov/portal/advanceSearch. | Oct. 8, 2020 | 370031
Oklahoma: Tulsa | City of Tulsa (20-06-0617P). | The Honorable G.T. Bynum, Mayor, City of Tulsa, 175 East 2nd Street, 15th Floor, Tulsa, OK 74103. | Development Services Department, 175 East 2nd Street, 4th Floor, Tulsa, OK 74103. | https://msc.fema.gov/portal/advanceSearch. | Oct. 30, 2020 | 405381
Pennsylvania:
Allegheny | Municipality of Mt. Lebanon (20-03-1146P). | Mr. Keith McGill, Manager, Municipality of Mt. Lebanon, 710 Washington Road, Pittsburgh, PA 15228. | Inspection Department, 710 Washington Road, Pittsburgh, PA 15228. | https://msc.fema.gov/portal/advanceSearch. | Oct. 8, 2020 | 421272
Columbia | Township of Mifflin (20-03-0995X). | The Honorable Ricky L. Brown, President, Township of Mifflin Board of Supervisors, P.O. Box 359, Mifflinville, PA 18631. | Code Enforcement and Zoning Department, 207 East 1st Street, Mifflinville, PA 18631. | https://msc.fema.gov/portal/advanceSearch. | Oct. 26, 2020 | 421167
York | Borough of Hanover (20-03-1145P). | The Honorable William W. Reichart II, President, Borough of Hanover Council, 44 Frederick Street, Hanover, PA 17331. | Borough Hall, 44 Frederick Street, Hanover, PA 17331. | https://msc.fema.gov/portal/advanceSearch. | Oct. 5, 2020 | 422212
York | Township of Penn (20-03-1145P). | The Honorable Justin J. Heiland, President, Township of Penn Board of Commissioners, 20 Wayne Avenue, Hanover, PA 17331. | Zoning Department, 20 Wayne Avenue, Hanover, PA 17331. | https://msc.fema.gov/portal/advanceSearch. | Oct. 5, 2020 | 421025
South Dakota:
Lincoln | City of Harrisburg (20-08-0017P). | The Honorable Julie Burke-Van Luvanee, Mayor, City of Harrisburg, 301 East Willow Street, Harrisburg, SD 57032. | City Hall, 301 East Willow Street, Harrisburg, SD 57032.57. | https://msc.fema.gov/portal/advanceSearch. | Oct. 2, 2020 | 460114
Pennington | City of Rapid City (19-08-0857P). | The Honorable Steve Allender, Mayor, City of Rapid City, 300 6th Street, Rapid City, SD 57701. | Public Works Department, Engineering Services Division, 300 6th Street, Rapid City, SD 57701. | https://msc.fema.gov/portal/advanceSearch. | Oct. 5, 2020 | 465420
Texas: Williamson | Unincorporated areas of Williamson County (20-06-0255P). | The Honorable Bill Gravell, Jr., Williamson County Judge, 710 South Main Street, Suite 101, Georgetown, TX 78626. | Williamson County Engineering Department, 3151 Southeast Inner Loop, Georgetown, TX 78626. | https://msc.fema.gov/portal/advanceSearch. | Oct. 29, 2020 | 481079
Virginia: Stafford | Unincorporated areas of Stafford County (20-03-0607P). | Mr. Thomas C. Foley, Stafford County Administrator, 1300 Courthouse Road, Stafford, VA 22554. | Stafford County Department of Public Works, Environmental Division, 2126 Jefferson Highway, Suite 203, Stafford, VA 22554. | https://msc.fema.gov/portal/advanceSearch. | Oct. 19, 2020 | 510154

[FR Doc. 2020-16609 Filed 7-30-20; 8:45 am]

BILLING CODE 9110-12-P